DEPARTMENT OF THE INTERIOR

National Park Service

[NPS-WASO-NAGPRA-16321; PPWOCRADN0-PCU00RP14.R50000]

Notice of Inventory Completion: State Historical Society of Wisconsin, Madison, WI

AGENCY: National Park Service, Interior.

ACTION: Notice.

SUMMARY: The State Historical Society of Wisconsin has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the State Historical Society of Wisconsin. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the State Historical Society of Wisconsin at the address in this notice by October 10, 2014.

ADDRESSES: Jennifer Kolb, Wisconsin Historical Museum, 30 North Carroll Street, Madison, WI 53703, telephone (608) 261-2461, email Jennifer.Kolb@wisconsinhistory.org.

SUPPLEMENTARY INFORMATION: Notice is here given in accordance with the Native American Graves Protection and Repatriation Act (NAGPRA), 25 U.S.C. 3003, of the completion of an inventory of human remains and associated funerary objects under the control of the State Historical Society of Wisconsin, Madison, WI. The human remains and associated funerary objects were removed from seven sites in Door County, WI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the State Historical Society of Wisconsin professional staff in consultation with representatives of the Forest County Potawatomi Community, Wisconsin; Ho-Chunk Nation of Wisconsin; and the Menominee Indian Tribe of Wisconsin.

History and Description of the Remains

In 1986 or 1987, human remains representing, at minimum, two individuals (HP.DR-0001.1) were removed from the Heins Creek site (47-DR-0001) in Door County, WI. The human remains were exposed by erosion from the Lake Michigan shore near the mouth of Heins Creek, were collected by a local resident, and were turned over to the Door County Sheriff's Office. The human remains were transferred to the State Historical Society's Burial Sites Preservation Program in 1988. The human remains were determined to be those of an adult male and an adult of indeterminate sex. No known individuals were identified. No associated funerary objects are present.

In 1994, human remains representing, at minimum, one individual (2005.161.9.DR11.AS1E2BP-14-16 & 2005.161.9.DR11.AS1E2BP-20-31) were removed from the Shanty Bay site (47-DR-0011) in Door County, WI. The human remains were uncovered during a DNR excavation of the site, located in Peninsula State Park on the east shore of Nicolet Bay, in preparation of a drainage project. The State Historical Society's Burial Sites Preservation Program was notified, and it was agreed that the burial be exposed, documented, and reburied. However, some fragmentary human remains were discovered during washing and sorting of other artifacts and were misidentified as faunal bone. The limited skeletal analysis done of the human remains left in situ suggested that they were of an elderly female. No known individuals were identified. No associated funerary objects are present.

In 1989, human remains representing, at minimum, 22 individuals (HP.DR-0036.1) were removed from the Circle Ridge site (47-DR-0036) in Door County, WI. The human remains were disturbed by sewer and water line construction in the Circle Ridge Subdivision. The City of Sturgeon Bay Police Department notified the State Historical Society's Burial Sites Preservation Program staff of the disturbance, and they excavated the human remains. The human remains were determined to be those of seven adult males, five adult females, two adults of indeterminate sex, and eight children of indeterminate sex. No known individuals were identified. The one associated funerary object is a tubular copper bead (HP.DR-0036.2).

In 2004, human remains representing, at minimum, one individual (HP.DR-0043.1) were removed from the Shoemaker's Point Mounds and Cemetery (47-DR-0043) in Door County, WI. The human remains were discovered by the landowner in sand backfill during house construction. The landowner sent the remains to the State Historical Society's Burial Sites Preservation Program on September 23, 2004, for identification. The human remains were determined to be those of an adult female. No known individuals were identified. No associated funerary objects are present.

In 1991, human remains representing, at minimum, one individual (HP.DR-0085.1) were removed from the Cave Point Park site (47-DR-0085) in Door County, WI. The human remains were exposed by a downed tree along the Lake Michigan shoreline. The manager of Cave Point Park notified the State Historical Society's Burial Sites Preservation Program of the exposed remains. A staff archeologist collected the exposed remains and reported that much of the burial had fallen into Lake Michigan. The human remains were determined to be those of an adult female. No known individuals were identified. No associated funerary objects are present.

In 1988, human remains representing, at minimum, three individuals (HP.DR-0113.1) were removed from the Boyer's Bluff Cave Burial site (47-DR-0113) in Door County, WI. The human remains were discovered in a cave on Boyer's Bluff by a rock climber, who reported the discovery to the police. The police then transferred them to the State Historical Society's Burial Sites Preservation Program. The human remains were determined to be those of an adult male, a juvenile of indeterminate sex, and a young adult of indeterminate sex. No known individuals were identified. No associated funerary objects are present.

At an unknown date, human remains representing, at minimum, two individuals (HP.DR-0457.1) were removed from the Whitefish Dunes State Park Burial site (47-DR-0457) in Door County, WI. The human remains, consisting of a cranium and a mandible, were transferred from the Door County Sheriff's Office to the State Historical Society's Burial Sites Office in October 1988. The human remains were determined to be those of an adult male and an adult female. No known individuals were identified. No associated funerary objects are present.

Determinations Made by the State Historical Society of Wisconsin

Officials of the State Historical Society of Wisconsin have determined that:

• Pursuant to 25 U.S.C. 3001(9), the human remains described in this notice are Native American based on the location and context of the burial sites, skeletal analysis, in some instances, and State Historical Society records.

• Pursuant to 25 U.S.C. 3001(9), the human remains described in this notice represent the physical remains of 32 individuals of Native American ancestry.

• Pursuant to 25 U.S.C. 3001(3)(A), the one object described in this notice is reasonably believed to have been placed with or near individual human remains at the time of death or later as part of the death rite or ceremony.

• Pursuant to 25 U.S.C. 3001(2), a relationship of shared group identity cannot be reasonably traced between the Native American human remains and any present-day Indian tribe.

• According to final judgments of the Indian Claims Commission or the Court of Federal Claims, the land from which the Native American human remains and associated funerary objects were removed is the aboriginal land of the Forest County Potawatomi Community, Wisconsin.

• Treaties, Acts of Congress, or Executive Orders, indicate that the land from which the Native American human remains and associated funerary objects were removed is the aboriginal land of the Menominee Indian Tribe of Wisconsin.

• Pursuant to 43 CFR 10.11(c)(1), the disposition of the human remains and associated funerary objects may be to the Forest County Potawatomi Community, Wisconsin, and the Menominee Indian Tribe of Wisconsin.

Additional Requestors and Disposition

Representatives of any Indian tribe or Native Hawaiian organization not identified in this notice that wish to request transfer of control of these human remains and associated funerary objects should submit a written request with information in support of the request to Jennifer Kolb, Wisconsin Historical Museum, 30 North Carroll Street, Madison, WI 53703, telephone (608) 261-2461, email Jennifer.Kolb@wisconsinhistory.org, by October 10, 2014. After that date, if no additional requestors have come forward, transfer of control of the human remains and associated funerary objects to the Forest County Potawatomi Community, Wisconsin, and the Menominee Indian Tribe of Wisconsin may proceed.

The State Historical Society of Wisconsin is responsible for notifying the Forest County Potawatomi Community, Wisconsin, and the Menominee Indian Tribe of Wisconsin that this notice has been published.

Dated: July 24, 2014.
Melanie O'Brien,
Acting Manager, National NAGPRA Program.

[FR Doc. 2014-21495 Filed 9-9-14; 8:45 am]

BILLING CODE 4312-50-P